DEPARTMENT OF COMMERCE

National Oceanic and Atmospheric Administration

RIN 0648-XF018

Caribbean Fishery Management Council; Public Meeting

AGENCY: National Marine Fisheries Service (NMFS), National Oceanic and Atmospheric Administration (NOAA), Commerce.

ACTION: Notice of a public meeting.

SUMMARY: The Puerto Rico Fishers Spiny Lobster Data Collection Initiative will meet in December in St. Thomas, USVI.

DATES: The meeting will be held on December 13, 2016, from 7:30 p.m. to 9:30 p.m.

ADDRESSES: The meeting will be held at the The Frenchman's Reef & Morning Star Marriott Beach Resort, 5 Estate Bakkeroe, St. Thomas, USVI.

FOR FURTHER INFORMATION CONTACT: Caribbean Fishery Management Council, 270 Muñoz Rivera Avenue, Suite 401, San Juan, Puerto Rico 00918-1903, telephone (787) 766-5926.

SUPPLEMENTARY INFORMATION: The Puerto Rico Fishers Spiny Lobster Data Collection Initiative will meet to discuss the items contained in the following agenda:

The meeting objective is to discuss the following questions:

1. What are the data needed to adequately populate assessment models (data limited to data rich models)

2. What data are currently being collected,

3. What data are important, and

4. What new data are needed to improve the Data Collection System and Analyses

Special Accommodations

The meeting is physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: November 22, 2016.
Tracey L. Thompson,
Acting Deputy Director, Office of Sustainable Fisheries, National Marine Fisheries Service.

[FR Doc. 2016-28508 Filed 11-25-16; 8:45 am]

BILLING CODE 3510-22-P